DEPARTMENT OF HEALTH AND HUMAN SERVICES

National Institutes of Health

National Institute of Biomedical Imaging and Bioengineering; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Biomedical Imaging and Bioengineering, Special Emphasis Panel Training.

Date: July 16, 2008.

Time: 12 p.m. to 4 p.m.

Agenda: To review and evaluate grant applications.

Place: National Institutes of Health, Two Democracy Plaza, 6707 Democracy Boulevard, 242, Bethesda, MD 20892. (Telephone Conference Call)

Contact Person: Ruth Grossman, DDS, Scientific Review Administrator, National Institutes of Biomedical Imaging and Bioengineering, 6707 Democracy Boulevard, Room 960, Bethesda, MD 20892, (301) 496-8775, grossmanrs@mail.nih.gov.

Name of Committee: National Institute of Biomedical Imaging and Bioengineering, Special Emphasis Panel, Tissue Engineering.

Date: July 17, 2008

Time: 11 a.m. to 4 p.m.

Agenda: To review and evaluate grant applications.

Place: National Institutes of Health, Two Democracy Plaza, 6707 Democracy Boulevard, 223, Bethesda, MD 20892. (Telephone Conference Call)

Contact Person: John K. Hayes, PhD, Scientific Review Officer, 6707 Democracy Blvd., Suite 959, Democracy Two, Bethesda, MD 20892, (301) 451-3398, hayesj@mail.nih.gov.

Dated: April 3, 2008.
Jennifer Spaeth,
Director, Office of Federal Advisory Committee Policy.

[FR Doc. E8-7528 Filed 4-9-08; 8:45 am]

BILLING CODE 4140-01-M